FEDERAL COMMUNICATIONS COMMISSION

47 CFR Part 73

[DA 05-2504; MB Docket No. 05-152; RM-11204]

Radio Broadcasting Services; Clinton and Mayfield, Kentucky

AGENCY: Federal Communications Commission.

ACTION: Final rule.

SUMMARY: In response to a Notice of Proposed Rule Making, 70 FR 19401 (April 13, 2005), this Report and Order reallots Channel 271C3, Station WLLE(FM) (“WLLE”), Clinton, Kentucky, to Mayfield, Kentucky, upgrades Channel 271C3 to Channel 271C2, and modifies Station WLLE(FM)'s license accordingly. In addition, this Report and Order reallots Channel 234C2 from Mayfield to Clinton, Kentucky, and modifies Station WQQR(FM)'s license accordingly. The Report and Order also relocates the transmitter site of Station WLIE-FM, Channel 232A, Golconda, Illinois, to avoid short spacing to Channel 234C2 at Clinton, Kentucky. The coordinates for Channel 271C2 at Mayfield, Kentucky are 36-40-36 NL and 88-29-29 WL, with a site restriction of 14.9 kilometers (9.2 miles) southeast of Mayfield. The coordinates for Channel 234C2 at Clinton are 36-45-51 NL and 88-39-55 WL, with a site restriction of 31.2 kilometers (19.4 miles) east of Clinton. The new coordinates for the transmitter site of Station WLIE-FM, Channel 232A, Golconda, Illinois are 37-14-18 NL and 88-29-40 WL, with a site restriction of 14.3 kilometers (8.9 miles) south of Golconda, Illinois.

DATES: Effective November 10, 2005.

FOR FURTHER INFORMATION CONTACT: R. Barthen Gorman, Media Bureau, (202) 418-2180.

SUPPLEMENTARY INFORMATION: This is a synopsis of the Commission's Report and Order, MB Docket No. 05-152, adopted September 23, 2005, and released September 26, 2005. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334, 336.

§ 73.202 [Amended]

2. Section 73.202(b), the Table of FM Allotments under Kentucky, is amended by removing Channel 271C3 and adding Channel 234C2 at Clinton, and removing Channel 234C2 and adding Channel 271C2 at Mayfield.

Federal Communications Commission.
John A. Karousos,
Assistant Chief, Audio Division, Media Bureau.

[FR Doc. 05-20354 Filed 10-11-05; 8:45 am]

BILLING CODE 6712-01-P